DEPARTMENT OF JUSTICE

[OMB Number 1121-0NEW]

Agency Information Collection Activities; Proposed eCollection eComments Requested; Data Security Requirements for Accessing Restricted Data

AGENCY: Bureau of Justice Statistics, Department of Justice.

ACTION: 30-day notice.

SUMMARY: The Department of Justice (DOJ), Office of Justice Programs, Bureau of Justice Statistics, will be submitting the following information collection request to the Office of Management and Budget (OMB) for review and approval in accordance with the Paperwork Reduction Act of 1995. The proposed information collection was previously published in the Federal Register on November 17, 2022, allowing a 60-day comment period.

DATES: Comments are encouraged and will be accepted for 30 days until June 5, 2023.

FOR FURTHER INFORMATION CONTACT: If you have comments especially on the estimated public burden or associated response time, suggestions, or need a copy of the proposed information collection instrument with instructions or additional information, please contact the Bureau of Justice Statistics, 810 Seventh Street NW, Washington, DC 20531; telephone (202) 307-0765 or send an email to askbjs@usdoj.gov. Please include “Data Security Requirements for Accessing Restricted Data” in the subject line.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and/or

—Minimize the burden of the collection of information on those who are to respond, including through the use of appropriate automated, electronic, mechanical, or other technological collection techniques or other forms of information technology, e.g., permitting electronic submission of responses.

DOJ seeks PRA authorization for this information collection for three (3) years. OMB authorization for an ICR cannot be for more than three (3) years without renewal. The DOJ notes that information collection requirements submitted to the OMB for existing ICRs receive a month-to-month extension while they undergo review.

Overview of this information collection:

1. Type of Information Collection: New collection.

2. Title of the Form/Collection: Data Security Requirements for Accessing Restricted Data.

3. Agency form number, if any, and the applicable component of the Department of Justice sponsoring the collection: There is no form number associated with this information collection. The applicable component within the Department of Justice is the Bureau of Justice Statistics, in the Office of Justice Programs.

4. Affected public who will be asked or required to respond, as well as a brief abstract: Affected Public: State, Local and Tribal Governments.

Abstract: The Foundations for Evidence-Based Policymaking Act of 2018 mandates that the OMB establish a Standard Application Process (SAP) for requesting access to certain confidential data assets for statistical purposes, including evidence-building. The SAP is to be a process through which agencies, the Congressional Budget Office, State, local, and Tribal governments, researchers, and other individuals, as appropriate, may apply to access confidential data assets held by a federal statistical agency or unit for the purposes of developing evidence. BJS will collect some information to meet its data security requirements through the SAP Portal to review an application for restricted (confidential) microdata. Once an application for restricted data is approved through the SAP Portal, BJS will collect additional information to complete its data security requirements.

5. Total Estimated Number of Respondents: 55.

6. Total Estimated Number of Responses: 55.

7. Time per Response: 3 hours.

8. Total Estimated Annual Time Burden: 165 hours.

9. Total Estimated Annual Other Costs Burden: $0.

If additional information is required, contact: John R. Carlson, Department Clearance Officer, Policy and Planning Staff, Justice Management Division, United States Department of Justice, Two Constitution Square, 145 N Street NE, 4W-218 Washington, DC 20530.

Dated: April 25, 2023.
John R. Carlson,
Department Clearance Officer for PRA, U.S. Department of Justice.

[FR Doc. 2023-09498 Filed 5-3-23; 8:45 am]

BILLING CODE 4410-18-P